FEDERAL COMMUNICATIONS COMMISSION

47 CFR Part 73

[DA 01-2812, MM Docket No. 01-302, RM-10333]

Digital Television Broadcast Service; Fort Wayne, IN

AGENCY: Federal Communications Commission.

ACTION: Proposed rule.

SUMMARY: The Commission requests comments on a petition filed by Indiana Broadcasting, LLC, licensee of station WANE-TV, NTSC channel 15, Fort Wayne, Indiana, proposing the substitution of DTV channel 31 for station WANE-TV's assigned DTV channel 4. DTV Channel 31 can be allotted to Fort Wayne, Indiana, in compliance with the principle community coverage requirements of Section 73.625(a) at reference coordinates (41-05-38 N. and 85-10-48 W.). However, since the community of Fort Wayne is 400 kilometers within the U.S.-Canadian border, concurrence from the Canadian government must be obtained for this allotment. As requested, we propose to allot DTV Channel 31 to Fort Wayne with a power of 82 and a height above average terrain (HAAT) of 253 meters.

DATES: Comments must be filed on or before January 28, 2002, and reply comments on or before February 12, 2002.

ADDRESSES: Federal Communications Commission, 445 12th Street, SW., Room TW-A325, Washington, DC 20554. In addition to filing comments with the FCC, interested parties should serve the petitioner, or its counsel or consultant, as follows: William H. Fitz, Covington & Burling, 1201 Pennsylvania Avenue, NW., Washington, DC 20004 (Counsel for Indiana Broadcasting, LLC).

FOR FURTHER INFORMATION CONTACT: Pam Blumenthal, Mass Media Bureau, (202) 418-1600.

SUPPLEMENTARY INFORMATION: This is a synopsis of the Commission's Notice of Proposed Rule Making, MM Docket No. 01-302, adopted December 4, 2001, and released December 6, 2001. The full text of this document is available for public inspection and copying during regular business hours in the FCC Reference Information Center, Portals II, 445 12th Street, S.W., Room CY-A257, Washington, DC, 20554. This document may also be purchased from the Commission's duplicating contractor, Qualex International, Portals II, 445 12th Street, SW., Room CY-B402, Washington, DC, 20554, telephone 202-863-2893, facsimile 202-863-2898, or via e-mail qualexint@aol.com.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Television, Digital television broadcasting.

For the reasons discussed in the preamble, the Federal Communications Commission proposes to amend 47 CFR part 73 as follows:

PART 73—TELEVISION BROADCAST SERVICES

1. The authority citation for part 73 continues to read as follows:

Authority: 47 U.S.C. 154, 303, 334, and 336.

§ 73.622 [Amended]

2. Section 73.622(b), the Table of Digital Television Allotments under Indiana is amended by removing DTV Channel 4 and adding DTV Channel 31 at Fort Wayne.

Federal Communications Commission.
Barbara A. Kreisman,
Chief, Video Services Division, Mass Media Bureau.

[FR Doc. 01-31458 Filed 12-20-01; 8:45 am]

BILLING CODE 6712-01-P